SECURITIES AND EXCHANGE COMMISSION

Submission for OMB Review; Comment Request

Upon written request, copies available from: Securities and Exchange Commission, Office of Filings and Information Services, Washington, DC 20549.

Extension: Form N-Q; SEC File No. 270-519; OMB Control No. 3235-0578

Notice is hereby given that pursuant to the Paperwork Reduction Act of 1995 (44 U.S.C. 3501 et seq.) the Securities and Exchange Commission (“Commission”) has submitted to the Office of Management and Budget (“OMB”) a request for extension of the previously approved collection of information discussed below.

• Form N-Q—Quarterly Schedule of Portfolio Holdings of Registered Management Investment Company

Form N-Q (17 CFR 249.332 and 274.130) is a reporting form under Sections 13 and 15(d) of the Securities Exchange Act of 1934 (15 U.S.C. 78a et seq.), in addition to the Investment Company Act of 1940 (15 U.S.C. 80a-1 et seq.) (“Investment Company Act”) that requires a fund to file its complete portfolio schedule as of the end of its first and third fiscal quarters with the Commission. Form N-Q contains collection of information requirements. The respondents to this information collection will be management investment companies subject to Rule 30e-1 under the Investment Company Act registering with the Commission on Forms N-1A, N-2, or N-3. Approximately 3,237 entities, including 8,963 portfolios, are required to file Form N-Q, which is estimated to require an average of 21 hours per portfolio per year to complete. The estimated annual burden of complying with the filing requirement is approximately 188,223 hours. The estimates of average burden hours are made solely for the purposes of the Paperwork Reduction Act of 1995 (44 U.S.C. 3501 et seq.) and are not derived from a comprehensive or even representative survey or study of the cost of Commission rules and forms. The collection of information under Form N-Q is mandatory. The information provided by the Form is not kept confidential. An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503 or e-mail to: David_Rostker@omb.eop.gov; and (ii) R. Corey Booth, Director/Chief Information Officer, Securities and Exchange Commission, C/O Shirley Martinson, 6432 General Green Way, Alexandria, VA 22312, or send an e-mail to: PRA_Mailbox@sec.gov. Comments must be submitted to OMB within 30 days of this notice.

February 5, 2007.
Florence E. Harmon,
Deputy Secretary.

[FR Doc. E7-2629 Filed 2-14-07; 8:45 am]

BILLING CODE 8010-01-P